DEPARTMENT OF THE TREASURY

Office of Foreign Assets Control

Sanctions Actions Pursuant to Executive Order 13581

AGENCY: Office of Foreign Assets Control, Treasury.

ACTION: Notice.

SUMMARY: The U.S. Department of the Treasury's Office of Foreign Assets Control (OFAC) is publishing the name of a person whose property and interests in property have been unblocked pursuant to Executive Order 13581 of July 24, 2011, “Blocking Property of Transnational Criminal Organizations.”

DATES: OFAC's actions described in this notice were effective on May 16, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On May 16, 2017, OFAC removed from the SDN List the person listed below, whose property and interests in property were blocked pursuant to Executive Order 13581.

Individual

1. FERRARI, Raffaella, Parkshot House, 5 Kew Road, Richmond, Surrey TW9 2PR, United Kingdom; Kingston upon Thames, United Kingdom; 69 Buchanan Street, Glasgow, Scotland G1 3HL, United Kingdom; DOB 01 Nov 1972 to 30 Nov 1972; nationality Italy (individual) [TCO] (Linked To: PACNET SERVICES LTD.; Linked To: CHEXX ITALIA SRL; Linked To: THE PAYMENTS FACTORY LTD.; Linked To: COUNTING HOUSE SERVICES LTD.; Linked To: PACNET GROUP).

Dated: May 16, 2017.
Andrea Gacki,
Acting Director, Office of Foreign Assets Control.

Editorial note: This document was received for publication by the Office of the Federal Register on October 6, 2017.

[FR Doc. 2017-22095 Filed 10-11-17; 8:45 am]

BILLING CODE 4810-AL-P